ENVIRONMENTAL PROTECTION AGENCY

[FRL-9983-28-OAR]

Request for Nominations for the 2019 Clean Air Excellence Awards Program

AGENCY: Environmental Protection Agency (EPA).

ACTION: Request for nominations for Clean Air Excellence Awards.

SUMMARY: This notice announces the competition for the 2019 Clean Air Excellence Awards Program. EPA established the Clean Air Excellence Awards Program in February 2000 to recognize outstanding and innovative efforts that support progress in achieving clean air.

DATES: All submissions of entries for the Clean Air Excellence Awards Program must be postmarked by November 2, 2018.

FOR FURTHER INFORMATION CONTACT: Additional information on this awards program, including the entry form, can be found on EPA's Clean Air Act Advisory Committee (CAAAC) website: http://epa.gov/air/cleanairawards/index.html. Any member of the public who wants further information may contact Ms. Catrice Jefferson, Office of Air and Radiation, U.S. EPA by telephone at (202) 564-1668 or by email at jefferson.catrice@epa.gov.

SUPPLEMENTARY INFORMATION: Awards Project Notice, Pursuant to 42 U.S.C. 7403(a)(1) and (2) and sections 103(a)(1) and (2) of the Clean Air Act (CAA), notice is hereby given that the EPA's Office of Air and Radiation (OAR) announces the opening of competition for the 2019 Clean Air Excellence Awards Program (CAEAP). The intent of the program is to recognize and honor outstanding, innovative efforts that help to make progress in achieving cleaner air. The CAEAP is open to both public and private entities. Entries are limited to efforts related to air quality in the United States. There are five general award categories: (1) Clean Air Technology; (2) Community Action; (3) Education/Outreach; (4) State/Tribal/Local Air Quality Policy Innovations; and (5) Transportation Efficiency Innovations. There are also two special awards categories: (1) Thomas W. Zosel Outstanding Individual Achievement Award; and (2) Gregg Cooke Visionary Program Award. Awards are given periodically and are for recognition only.

Entry Requirements: All applicants are asked to submit their entry on a CAEAP entry form, contained in the CAEAP Entry Package, which may be obtained from the CAAAC website at http://epa.gov/air/cleanairawards/entry.html. Applicants can also contact Ms. Catrice Jefferson, Office of Air and Radiation, U.S. EPA by telephone at (202) 564-1668 or by email at jefferson.catrice@epa.gov. The entry form is a simple, four-part form asking for general information on the applicant; a narrative description of the project; three (3) independent references for the proposed entry; and your knowledge of EPA awards programs and resources. Applicants should also submit additional support documentation as necessary. Specific directions and information on filing an entry form are included in the Entry Package.

Judging and Award Criteria: EPA staff will use a screening process, with input from outside subject experts, as needed. Members of the CAAAC will provide advice to EPA on the entries. The EPA Assistant Administrator for Air and Radiation will make the final award decisions. Entries will be judged using both general criteria and criteria specific to each individual category. These criteria are listed in the 2019 Entry Package.

Dated: August 28, 2018.
Catrice Jefferson,
Office of Air and Radiation.

[FR Doc. 2018-19135 Filed 8-31-18; 8:45 am]

BILLING CODE 6560-50-P